DEPARTMENT OF VETERANS AFFAIRS

Special Medical Advisory Group; Notice of Meeting

The Department of Veterans Affairs (VA) gives notice under the Federal Advisory Committee Act that the Special Medical Advisory Group will meet on October 18, 2017, at the Department of Veterans Affairs, VA Central Office, 810 Vermont Ave, Washington, DC 20420, Conference Room 230 from 8:00 a.m. to 4:00 p.m. ET. The meeting is open to the public.

The purpose of the Group is to advise the Secretary of Veterans Affairs and the Under Secretary for Health on the care and treatment of Veterans, and other matters pertinent to the Veterans Health Administration (VHA).

The agenda for the meeting will include a review of the CARE Plan, Health Improvement Center, and a review of the Manchester investigation.

Thirty (30) minutes will be allocated at the end of the meeting for receiving oral presentations from the public. Members of the public may submit written statements for review by the Committee to Jeff Harp at the Department of Veterans Affairs, Office of Under Secretary for Health (10), Veterans Health Administration, 810 Vermont Avenue NW, Washington, DC 20420, phone 202-461-7016 or by email at VASMAGDFO@va.gov.

Any member of the public wishing to attend the meeting or seeking additional information should email VASMAGDFO@va.gov. All persons attending the meeting will go through security screening, please bring photo I.D. Because the meeting is being held in a government building, a photo I.D. must be presented at the Guard's Desk as a part of the clearance process. Due to security protocols and to prevent delays in clearance processing, you should allow an additional 30 minutes before the meeting begins.

Dated: September 14, 2017.
LaTonya L. Small,
Federal Advisory Committee Management Officer.

[FR Doc. 2017-19973 Filed 9-19-17; 8:45 am]

BILLING CODE P